DEPARTMENT OF DEFENSE

Department of the Navy

Notice of Intent To Grant a Partially Exclusive Patent License; PopTest Cortisol LLC

AGENCY: Department of the Navy, DoD.

ACTION: Notice.

SUMMARY: The Department of the Navy hereby gives notice of its intent to grant to PopTest Cortisol LLC, a revocable, nonassignable, partially exclusive license to practice worldwide the Government owned inventions described in U.S. Patent Application Serial No. 12/163,412 entitled “Fluorescence polarization instruments and methods for detection of exposure to biological materials by fluorescence polarization immunoassay of saliva, oral or bodily fluids”; U.S. Patent Application Serial No. 11/328,486, entitled “Method for the detection of stress biomarkers including cortisol by fluorescence polarization”; and U.S. Patent Application Serial No. 11/726,203 entitled “Method for the detection of target molecules by fluorescence polarization using peptide mimics” in the field of “Development of a saliva based cortisol rapid response detection devices utilizing fluorescence polarization”

DATES: Anyone wishing to object to the grant of this license must file written objections along with supporting evidence, if any, not later than May 3, 2011.

ADDRESSES: Written objections are to be filed with the Office of Technology Transfer, Naval Medical Research Center, 503 Robert Grant Ave., Silver Spring, MD 20910-7500.

FOR FURTHER INFORMATION CONTACT: Roxanne Charles, Office of Legal and Technology Services, Naval Medical Research Center, 503 Robert Grant Ave., Silver Spring, MD 20910-7500, telephone 301-319-9846.

Dated: April 11, 2011.
D.J. Werner,
Lieutenant Commander, Judge Advocate General's Corps, U.S. Navy, Federal Register Liaison Officer.

[FR Doc. 2011-9273 Filed 4-15-11; 8:45 am]

BILLING CODE 3810-FF-P